DEPARTMENT OF HEALTH AND HUMAN SERVICES

National Institutes of Health

National Institute of Biomedical Imaging and Bioengineering; Amended Notice of Meeting; Amended Notice of Meeting

Notice is hereby given of a change in the meeting of the National Advisory Council for Biomedical Imaging and Bioengineering, March 19, 2026, 12:00 p.m. to March 16, 2026, 03:00 p.m., National Institutes of Health, DEM II, Suite 920, 6707 Democracy Boulevard, Bethesda, MD 20817 which was published in the Federal Register on December 22, 2026, 90 FR 59849.

This notice is being amended to change the meeting contact person from Dr. Anna Taylor to Dr. Thomas Cheever. The meeting is changing from March 19, 2026, 12:00 p.m. to 3:00 p.m., to March 16, 2026, from 3:00 p.m. to 5:00 p.m. The meeting is closed to the public.

Dated: February 26, 2026.
Margaret N. Vardanian,
Program Analyst, Office of Federal Advisory Committee Policy.

[FR Doc. 2026-04107 Filed 2-27-26; 8:45 am]

BILLING CODE 4140-01-P